DEPARTMENT OF AGRICULTURE

Forest Service

Comet Administrative Study EIS—Klamath National Forest

AGENCY: Forest Service, USDA.

ACTION: Notice of intent to prepare an environmental impact statement.

SUMMARY: The Forest Service will prepare an environmental impact statement (EIS) on a proposal to conduct an administrative study on 1,880 acres of National Forest System land (Matrix land allocation only) in the Salmon River watershed near the towns of Sawyers Bar and Forks of Salmon in Siskiyou County, California. The purpose of the proposal is to conduct the Comet Administrative Study that will examine the cause and effect of Klamath National Forest Land and Resource Management Plan (Forest Plan) modeled silvicultural prescriptions and associated harvest techniques on presence and relative abundance of Survey and Manage (SM) mollusks (special survey and manage requirements for species that are rare or uncommon).

DATES: Comments concerning the scope of the analysis should be received on or before December 29, 2000.

ADDRESSES: Send written comments to Jan Ford, Acting District Ranger, Salmon River Ranger District, 11263 N. Highway 3, Fort Jones, CA 96032. Electronic mail may be sent to r5_klamath_Comment@fs.fed.us. See the SUPPLEMENTARY INFORMATION section for additional information about electronic filing.

FOR FURTHER INFORMATION CONTACT: Sue Stresser, EIS Team Leader, (530) 468-5351.

SUPPLEMENTARY INFORMATION: This Administrative Study will be accomplished through the following actions:

1. Collect pre-treatment information and data on mollusks using the approved survey strategy for the study.

2. Test stand treatments as follows:

(a) Green Tree Retention Prescription (GTR): Thirty-two stands with an average size of 15 acres have been chosen. The range of stand sizes varies from 4 to 32 acres. Half of these are north facing aspects (cool/moist). The remainder are south facing stands (warmer/drier). The treatments will be randomly applied with equal frequency (four treated and four as control for north aspects and the same for south aspects).

(b) Commercial Thin Prescription: Thirty-two stands with an average size of 18 acres have been chosen. The range of stand sizes varies from 6 to 69 acres. Half of these are north facing aspects (cool/moist). The remainder are south facing stands (warmer/drier). The treatments will be randomly applied with equal frequency (four treated and four as control for north aspects and the same for south aspects).

(c) Group Selection Prescription: Thirty-two stands with an average size of 26 acres have been chosen. The range of stand sizes varies from 8 to 50 acres. Half of these will be north facing aspects (cool/moist). The remainder will be south facing stands (warmer/drier). The treatments will be randomly applied with equal frequency (four treated and four as control for north aspects and the same for south aspects).

(d) No treatments will occur in control stands. Control stands will remain untreated through the life of the project (up to 10 years).

3. Apply logging systems to treatment stands in Item 2 above (see Table 1) as follows:

a. Conventional cable systems on half of the stands (24 total omitting the controls), including an equal number of group selection, GTR, and commercial thinning stands (half of each on north slopes and half on south slopes); and

b. Helicopter systems on the other half of the stands (24 total omitting controls), including an equal number of group selection, GTR, and commercial thinning stands (half of each on north slopes and half on south slopes).

4. Apply fuels treatment/site preparation methods to treatment stands in Item 2 above, using a combination of the following: hand pile and burn, lop/scatter, yard unutilized material, jackpot (burning concentrations of slash), and underburn.

5. Implement a combination of reforestation treatments, including planting, gopher baiting, and manual release.

6. Pre-commercial thin natural regeneration within treatment stands.

7. Implement the following transportation system improvements, including construction of temporary spur roads and landings, reconstruct portions of existing roads, and conduct road maintenance on existing system roads, as necessary for this administrative study.

8. Collect information and data on presence and relative abundance of SM mollusk species post-project, and for up to ten years after the completion of the project, according to the approved survey strategy.

9. Report findings after analysis is completed for each data collection.

This Administrative Study will include a one-time, site-specific Forest Plan amendment. Management Recommendations for SM mollusks and Del Norte Salamander will be waived in order to examine the effects of stand treatments, as described above, on mollusk species.

Purpose and Need

An important component of the Northwest Forest Plan Record of Decision for Amendments to Forest Service and Bureau of Land Management Planning Documents Within the Range of the Northern Spotted Owl (ROD, 1994) is the facilitation of research activities to gather information and test hypotheses in a range of environmental conditions. Where appropriate, some research activities were expected to be exempted from the Standards and Guidelines of the ROD (ROD, page 15). The Northwest Forest Plan requires, through Standards and Guidelines, the management of a number of species of plants and animals for which little information was available at the time the plan was authored.

The purpose of this study is to determine the effects of implementing Forest Plan modeled silvicultural prescriptions and associated harvest techniques on existing mollusk populations. It will also analyze long-term impacts, if any, and will study the recovery rate of these species if impacts are caused by treatments.

Many SM mollusks have been found in the Salmon River Watershed on the Klamath National Forest as a result of recent project-level and strategic surveys. These forested areas have experienced varying levels of human and natural disturbance (e.g., timber harvest, wildfire, roads). The administrative study will be used to gather information on the impacts of various harvest techniques, logging systems, and associated treatments on mollusks where very little information exists. Completion of this administrative study may assist with the development of long-term land management options on the Klamath National Forest.

Decision To Be Made

Whether the U.S. Department of Agriculture, Forest Service, Klamath National Forest will implement this project as proposed, including a project-specific amendment to the Forest Plan.

Responsible Official

Margaret Boland, Forest Supervisor, USDA Forest Service, 1312 Fairlane Road, Yreka, California 96097 is the Responsible Official for making the recommendation whether to implement this administrative study or not. She will document her decision and rationale in a Record of Decision.

Public Involvement, Rationale, and Public Meetings

In October 2000, this administrative study was included in the Klamath National Forest's Fall 2000 Schedule of Proposed Actions (SOPA), which was posted on the Klamath National Forest's internet website and mailed to the SOPA mailing list. In November 2000, a scoping letter of the proposed administrative study was sent to potentially affected individuals and anyone who expressed interest in this study. This notice will invite public comment for a period of 90 days. Comments received will be included in the documentation for the EIS. The public is encouraged to take part in the process and is encouraged to visit with Forest Service officials at any time during the analysis and prior to the decision. The Forest Service will be seeking information, comments and assistance from Federal, State, and local agencies and other individuals or organizations who may be interested in, or affected by, the proposed administrative study.

While public participation in this analysis is welcome at any time, comments received within 45 days of the publication of this notice will be especially useful in the preparation of the Draft EIS. A public meeting associated with the project will be held to gain a better understanding of public issues and concerns. This meeting will be held in the late spring of 2001.

Information from the meetings will be used in preparation of the draft and final EIS. The scoping process will include identifying: potential issues, significant issues to be analyzed in depth, alternatives to the proposed action, and potential environmental effects of the proposal and alternatives.

Electronic Access and Filing Addresses

Comments may be sent by electronic mail (e-mail) to r5_klamath_Comment@fs.fed.us. Please reference the Comet Administrative Study on the subject line. Also, include your name and mailing address with your comments so documents pertaining to this project may be mailed to you.

Estimated Dates for Filing

The Draft EIS is expected to be filed with the Environmental Protection Agency (EPA) and to be available for public review by November 2001. At that time, EPA will publish a Notice of Availability of the Draft EIS in the Federal Register. The comment period on the Draft EIS will be 45 days from the date of EPA publishes the Notice of Availability in the Federal Register. It is very important that those interested in the management of this area participate at that time.

The Final EIS is scheduled to be completed by February 2002. In the Final EIS, the Forest Service is required to respond to comments and responses received during the comment period that pertain to the environmental consequences discussed in the draft EIS and applicable laws, regulations, and policies considered in making a decision regarding the proposal.

The Reviewers' Obligation To Comment

The Forest Service believes it is important to give reviewers notice, at this early stage, of several court rulings related to public participation in the environmental review process. First, reviewers of Draft EISs must structure their participation in the environmental review of the proposal so that it is meaningful and alerts an agency to the reviewer's position and contentions. Vermont Yankee Nuclear Power Corp. v. NRDC, 435 U.S. 519, 553 (1978). Also, environmental objections that could be raised at the Draft EIS stage but that are not raised until after completion of the Final EIS may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the Final EIS.

To assist the Forest Service in identifying and considering issues and concerns on the proposed action, comments on the Draft EIS should be as specific as possible. It is also helpful if comments refer to specific pages or chapters of the draft statement. Comments may also address the adequacy of the Draft EIS or the merits of the alternatives formulated and discussed in the statement. Reviewers may wish to refer to the Council on Environmental Quality Regulations for implementing the procedural provisions of the National Environmental Policy Act at 40 CFR 1503.3 in addressing these points.

Margaret J. Boland,
Forest Supervisor, Klamath National Forest.

[FR Doc. 00-30400 Filed 11-28-00; 8:45 am]

BILLING CODE 3410-11-M